DEPARTMENT OF JUSTICE

Notice of Lodging of Proposed Amended Consent Decree Under the Comprehensive Environmental Response, Compensation, and Liability Act

On July 13, 2016, the Department of Justice lodged a proposed Third Amended Consent Decree with the United States District Court for the Western District of Washington in the lawsuit entitled United States v. Point Ruston LLC, Civil Action No. C91-5528 B.

This amended Consent Decree resolves disputes with Point Ruston LLC, and amends work and payment schedules established in the Second Amendment to the Asarco Tacoma Smelter Consent Decree, which the Court entered on October 23, 2006. The Consent Decree involves the Asarco Tacoma Smelter and Sediments/Groundwater Operable Units of the Commencement Bay Nearshore/Tideflats Superfund Site. Under the terms of this amendment, among other agreements: (1) New deadlines are set for the completion of the remedial action at the Site; (2) a payment schedule is established to address unpaid past oversight costs and other monies due; and (3) a process is established that allows Point Ruston to seek relief from the remedial action work schedule should it be prepared to commercially develop certain portions of the Site.

The publication of this notice opens a period for public comment on the Third Amended Consent Decree. Comments should be addressed to the Assistant Attorney General, Environment and Natural Resources Division, and should refer to United States v Point Ruston LLC, Civil Action No. C91-5528 B, D.J. Ref. No. 90-11-2-698/2. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the Third Amended Consent Decree may be examined and downloaded at this Justice Department Web site: https://www.justice.gov/enrd/consent-decrees. We will provide a paper copy of the Third Amended Consent Decree upon written request and payment of reproduction costs. Please mail your request and payment to: Consent Decree Library, U.S. DOJ-ENRD, P.O. Box 7611, Washington, DC 20044-7611.

Please enclose a check or money order for $71.00 (25 cents per page reproduction cost) payable to the United States Treasury. For a paper copy without the exhibits, the cost is $19.50.

Susan M. Akers,
Assistant Section Chief, Environmental Enforcement Section, Environment and Natural Resources Division.

[FR Doc. 2016-17087 Filed 7-19-16; 8:45 am]

BILLING CODE 4410-15-P